DEPARTMENT OF HOMELAND SECURITY

Federal Emergency Management Agency

[Docket ID FEMA-2013-0002; Internal Agency Docket No. FEMA-B-1294]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Baldwin | City of Gulf Shores (12-04-4632P) | The Honorable Robert S. Craft, Mayor, City of Gulf Shores, P.O. Box 299, Gulf Shores, AL 36547 | Community Development Department, 1905 West 1st Street, Gulf Shores, AL 36547 | http://www.bakeraecom.com/index.php/alabama/baldwin/ | March 11, 2013 | 015005
Jefferson | City of Birmingham (12-04-6207P) | The Honorable William A. Bell, Mayor, City of Birmingham, 710 North 20th Street, 3rd Floor, Birmingham, AL 35203 | City Hall, 710 North 20th Street, 3rd Floor, Birmingham, AL 35203 | http://www.bakeraecom.com/index.php/alabama/jefferson-3/ | April 5, 2013 | 010116
Shelby | City of Montevallo (12-04-7810P) | The Honorable Ben McCrory, Mayor, City of Montevallo, 545 Main Street, Montevallo, AL 35115 | City Hall, 545 Main Street, Montevallo, AL 35115 | http://www.bakeraecom.com/index.php/alabama/shelby-2/ | April 4, 2013 | 010349
Shelby | City of Pelham (12-04-7869P) | The Honorable Don Murphy, Mayor, City of Pelham, 3162 Pelham Parkway, Pelham, AL 35124 | City Hall, 3162 Pelham Parkway, Pelham, AL 35124 | http://www.bakeraecom.com/index.php/alabama/shelby-2 | April 11, 2013 | 010193
Shelby | Town of Indian Springs Village (12-04-7869P) | The Honorable Steve Zerkis, Mayor, Town of Indian Springs Village, 5300 Mountain Park Drive, Indian Springs, AL 35124 | Town Hall, 5300 Mountain Park Drive, Indian Springs, AL 35124 | http://www.bakeraecom.com/index.php/alabama/shelby-2 | April 11, 2013 | 010430
Shelby | Unincorporated areas of Shelby County (12-04-7869P) | The Honorable Lindsey Allen, Chairman, Shelby County Board of Supervisors, 200 West College Street, Columbiana, AL 35051 | Shelby County Engineer's Office, 506 Highway 70, Columbiana, AL 35051 | http://www.bakeraecom.com/index.php/alabama/shelby-2 | April 11, 2013 | 010191
Tuscaloosa | City of Tuscaloosa (12-04-3302P) | The Honorable Walter Maddox, Mayor, City of Tuscaloosa, 2201 University Boulevard, Tuscaloosa, AL 35401 | Engineering Department, 2201 University Boulevard, Tuscaloosa, AL 35401 | http://www.bakeraecom.com/index.php/alabama/tuscaloosa/ | April 22, 2013 | 010203
Tuscaloosa | City of Tuscaloosa (12-04-3303P) | The Honorable Walter Maddox, Mayor, City of Tuscaloosa, 2201 University Boulevard, Tuscaloosa, AL 35401 | Engineering Department, 2201 University Boulevard, Tuscaloosa, AL 35401 | http://www.bakeraecom.com/index.php/alabama/tuscaloosa/ | April 22, 2013 | 010203
Arizona:
Maricopa | City of Phoenix (13-09-0280P) | The Honorable Greg Stanton, Mayor, City of Phoenix, 200 West Washington Street, 11th Floor, Phoenix, AZ 85003 | Street Transportation Department, 200 West Washington Street, 5th Floor, Phoenix, AZ 85003 | http://www.r9map.org/Docs/13-09-0280P-040051-102DA.pdf | April 8, 2013 | 040051
California:
Santa Clara | City of Cupertino (12-09-2521P) | The Honorable Mark Santoro, Mayor, City of Cupertino, 10300 Torre Avenue, Cupertino, CA 95014 | Planning Department, 10300 Torre Avenue, Cupertino, CA 95014 | http://www.r9map.org/Docs/12-09-2521P-060339-102IAC.pdf | April 4, 2013 | 060339
Santa Clara | City of Los Altos (12-09-2859P) | The Honorable Val Carpenter, Mayor, City of Los Altos, 1 North San Antonio Road, Los Altos, CA 94022 | Public Works Department, 1 North San Antonio Road, Los Altos, CA 94022 | http://www.r9map.org/Docs/12-09-2859P-060341-102IAC.pdf | April 18, 2013 | 060341
Santa Clara | City of San Jose (12-09-2521P) | The Honorable Chuck Reed, Mayor, City of San Jose, 200 East Santa Clara Street, San Jose, CA 95113 | Department of Public Works, 200 East Santa Clara Street Tower, 3rd Floor, San Jose, CA 95113 | http://www.r9map.org/Docs/12-09-2521P-060349-102IAC.pdf | April 4, 2013 | 060349
Santa Clara | City of Saratoga (12-09-2521P) | The Honorable Chuck Page, Mayor, City of Saratoga, 13777 Fruitvale Avenue, Saratoga, CA 95070 | Planning Department, 13777 Fruitvale Avenue, Saratoga, CA 95070 | http://www.r9map.org/Docs/12-09-2521P-060351-102IAC.pdf | April 4, 2013 | 060351
Santa Clara | Town of Los Altos Hills (12-09-2859P) | The Honorable Rich Larsen, Mayor, Town of Los Altos Hills, 26379 Fremont Road, Los Altos Hills, CA 94022 | Public Works Department, 26379 Fremont Road, Los Altos Hills, CA 94022 | http://www.r9map.org/Docs/12-09-2859P-060342-102IAC.pdf | April 18, 2013 | 060342
Santa Clara | Unincorporated areas of Santa Clara County (12-09-2521P) | The Honorable George Shirakawa, President, Santa Clara County Board of Supervisors, 70 West Hedding Street, 10th Floor, San Jose, CA 95110 | Santa Clara County Office of Planning, 70 West Hedding Street, San Jose, CA 95110 | http://www.r9map.org/Docs/12-09-2521P-060337-102IAC.pdf | April 4, 2013 | 060337
Colorado:
Adams | City of Thornton (12-08-0595P) | The Honorable Heidi Williams, Mayor, City of Thornton, 9500 Civic Center Drive, Thornton, CO 80229 | 9500 Civic Center Drive, Thornton, CO 80229 | http://www.bakeraecom.com/index.php/colorado/adams/ | April 12, 2013 | 080007
Adams | Unincorporated areas of Adams County (12-08-0595P) | The Honorable W.R. “Skip” Fischer, Chairman, Adams County Board of Commissioners, 4430 South Adams County Parkway, 5th Floor, Suite C5000A, Brighton, CO 80601 | Adams County Public Works Department, 4430 South Adams County Parkway, 1st Floor, Suite W2123, Brighton, CO 80601 | http://www.bakeraecom.com/index.php/colorado/adams/ | April 12, 2013 | 080001
Arapahoe | City of Centennial (12-08-0553P) | The Honorable Cathy Noon, Mayor, City of Centennial, 13133 East Arapahoe Road, Centennial, CO 80112 | Southeast Metro Stormwater Authority, 76 Inverness Drive East, Suite A, Centennial, CO 80112 | http://www.bakeraecom.com/index.php/colorado/arapahoe/ | April 12, 2013 | 080315
Weld | Town of Erie (11-08-1090P) | The Honorable Joe Wilson, Mayor, Town of Erie, P.O. Box 750, Erie, CO 80516 | Town Hall, 645 Holbrook Street, Erie, CO 80516 | http://www.bakeraecom.com/index.php/colorado/weld/ | March 25, 2013 | 080181
Weld | Unincorporated areas of Weld County (11-08-1090P) | The Honorable Sean Conway, Chairman, Weld County Commissioners, P.O. Box 758, Greeley, CO 80632 | Weld County Public Works Department, 1111 H Street, Greeley, CO 80632 | http://www.bakeraecom.com/index.php/colorado/weld/ | March 25, 2013 | 080266
Florida:
Leon | Unincorporated areas of Leon County (12-04-6893P) | The Honorable Nicholas J. Maddox, Chairman, Leon County Board of Commissioners, 301 South Monroe Street, 5th Floor, Tallahassee, FL 32301 | Leon County Courthouse, 301 South Monroe Street, Tallahassee, FL 32301 | http://www.bakeraecom.com/index.php/florida/leon/ | April 19, 2013 | 120143
Miami-Dade | City of Sunny Isles Beach (12-04-6538P) | The Honorable Norman S. Edelcup, Mayor, City of Sunny Isles Beach, 18070 Collins Avenue, Sunny Isles Beach, FL 33160 | City Hall, 18070 Collins Avenue, Sunny Isles Beach, FL 33160 | http://www.bakeraecom.com/index.php/florida/miami-dade/ | April 8, 2013 | 120688
Monroe | Unincorporated areas of Monroe County (12-04-7637P) | The Honorable David Rice, Mayor, Monroe County, 1100 Simonton Street, Key West, FL 33040 | Monroe County Building Department, 2798 Overseas Highway, Marathon, FL 33050 | http://www.bakeraecom.com/index.php/florida/monroe-3/ | March 25, 2013 | 125129
Orange | City of Orlando (12-04-4611P) | The Honorable Buddy Dyer, Mayor, City of Orlando, P.O. Box 4990, Orlando, FL 32808 | Permitting Services Department, 400 South Orange Avenue, Orlando, FL 32801 | http://www.bakeraecom.com/index.php/florida/orange-2/ | April 19, 2013 | 120186
Orange | Unincorporated areas of Orange County (12-04-4611P) | The Honorable Teresa, Jacobs, Mayor, Orange County, 201 South Rosalind Avenue, Orlando, FL 32801 | Orange County Stormwater Management Department, 4200 South John Young Parkway, Orlando, FL 32839 | http://www.bakeraecom.com/index.php/florida/orange-2/ | April 19, 2013 | 120179
Walton | Unincorporated areas of Walton County (12-04-6405P) | The Honorable Scott Brannon, Chairman, Walton County Commissioners, 415 Highway 20, Freeport, FL 32439 | Walton County Courthouse Annex, 47 North 6th Street, DeFuniak Springs, FL 32435 | http://www.bakeraecom.com/index.php/florida/walton/ | April 5, 2013 | 120317
North Carolina:
Mecklenburg | Town of Cornelius (12-04-5511P) | The Honorable Jeff Tarte, Mayor, Town of Cornelius, 21445 Catawba Avenue, Cornelius, NC 28031 | Public Works Department, 21445 Catawba Avenue, Cornelius, NC 28031 | http://www.bakeraecom.com/index.php/northcarolina/mecklenburg-pmr-2/ | March 15, 2013 | 370498
Mecklenburg | Unincorporated areas of Mecklenburg County (12-04-5511P) | Mr. Harry L. Jones, Sr., Mecklenburg County Manager, 600 East 4th Street, Charlotte, NC 28202 | Charlotte-Mecklenburg Stormwater Services Division, 700 North Tryon Street, Charlotte, NC 28202 | http://www.bakeraecom.com/index.php/northcarolina/mecklenburg-pmr-2/ | March 15, 2013 | 370158
Tennessee:
Shelby | City of Germantown (12-04-5413P) | The Honorable Sharon Goldsworthy, Mayor, City of Germantown, 1930 South Germantown Road, Germantown, TN 38138 | Economic and Community Development Department, 1920 South Germantown Road, Germantown, TN 38138 | http://www.bakeraecom.com/index.php/tennessee/shelby/ | April 12, 2013 | 470353
Wyoming:
Laramie | Unincorporated areas of Laramie County (12-08-0028P) | The Honorable Gay Woodhouse, Chair, Laramie County Board of Commissioners, P.O. Box 1888, Cheyenne, WY 82001 | Laramie County Planning Department, Historic County Courthouse, 310 West 19th Street, Suite 400, Cheyenne, WY 82001 | http://www.bakeraecom.com/index.php/wyoming/laramie/ | April 8, 2013 | 560029

(Catalog of Federal Domestic Assistance No. 97.022, “Flood Insurance.”)

James A. Walke,
Acting Deputy Associate Administrator for Mitigation, Department of Homeland Security, Federal Emergency Management Agency.

[FR Doc. 2013-03256 Filed 2-12-13; 8:45 am]

BILLING CODE 9110-12-P